DEPARTMENT OF TRANSPORTATION

Federal Aviation Administration

14 CFR Part 71

[Docket No. FAA-2005-22398; Airspace Docket No. 05-ASO-7]

RIN 2120-AA66

Establishment of High Altitude Area Navigation Routes; South Central United States

AGENCY: Federal Aviation Administration (FAA), DOT.

ACTION: Final rule; withdrawal.

SUMMARY: This action withdraws a final rule published in the Federal Register on February 15, 2006 (71 FR 7845), Docket No. FAA-2005-22398; Airspace Docket No. 05-ASO-7. This was an incorrect copy inadvertently sent to the Federal Register. The incorrect final rule is being withdrawn as a result of this error. The correct final rule was published February 13, 2006 (71 FR 7409), establishing 16 high altitude area navigation routes in the South Central United States.

DATES: Effective Date: 0901 UTC, February 27, 2006.

FOR FURTHER INFORMATION CONTACT: Paul Gallant, Airspace and Rules, Office of System Operations and Safety, Federal Aviation Administration, 800 Independence Avenue, SW., Washington, DC 20591; telephone: (202) 267-8783.

SUPPLEMENTARY INFORMATION: On February 13, 2006, the FAA published in the Federal Register (71 FR 7409) a final rule establishing 16 high altitude area navigation routes in the South Central United States. On February 15, 2006, the FAA inadvertently published in the Federal Register an obsolete version of the final rule, which contained outdated fix names (71 FR 7845). This action withdraws the incorrect final rule published in error on February 15, 2006. The rule published on February 13, 2006 (71 FR 7409) contains the correct information.

Withdrawal of Final Rule

Accordingly, pursuant to the authority delegated to me, Docket No. FAA-2005-22398; Airspace Docket No. 05-ASO-7; as published in the Federal Register February 15, 2006 (71 FR 7845), is hereby withdrawn.

Issued in Washington, DC, on February 17, 2006.
Edith V. Parish,
Manager, Airspace and Rules.

[FR Doc. 06-1760 Filed 2-24-06; 8:45 am]

BILLING CODE 4910-13-P